DEPARTMENT OF COMMERCE

International Trade Administration

[A-570-803]

Continuation of Antidumping Duty Order: Bars, Wedges, Axes, Adzes, Picks, and Mattocks (Heavy Forged Handtools) From the People's Republic of China

AGENCY: Import Administration, International Trade Administration, Department of Commerce.

ACTION: Notice of Continuation of Antidumping Duty Order: Bars, Wedges, Axes, Adzes, Picks, and Mattocks (Heavy Forged Handtools) from the People's Republic of China.

SUMMARY: On February 4, 2000, and on June 2, 2000, the Department of Commerce (“the Department”), pursuant to sections 751(c) and 752 of the Tariff Act of 1930, as amended (“the Act”), determined that revocation of the antidumping duty order on bars, wedges, axes, adzes, picks, mattocks, hammers, and sledges (collectively, “heavy forged handtools”) from the PRC, is likely to lead to continuation or recurrence of dumping.¹ On July 26, 2000, the International Trade Commission (“the Commission”), pursuant to section 751(c) of the Act, determined that revocation of the antidumping duty order on heavy forged handtools from the PRC would be likely to lead to continuation or recurrence of material injury to an industry in the United States within a reasonably foreseeable time. See 65 FR 45998 (July 26, 2000). Therefore, pursuant to 19 CFR 351.218(f)(4), the Department is publishing notice of the continuation of the antidumping duty order on heavy forged handtools from the PRC.

¹ See Final Results of Expedited Sunset Reviews: Axes and Adzes and Picks and Mattocks From the People's Republic of China; 65 FR 5497 (February 4, 2000), and Final Results of Full Sunset Reviews: Bars and Wedges and Hammers and Sledges From the People's Republic of China; 65 FR 35321 (June 2, 2000).

EFFECTIVE DATE: August 10, 2000.

FOR FURTHER INFORMATION CONTACT: Martha V. Douthit or James P. Maeder, Office of Policy for Import Administration, International Trade Administration, U.S. Department of Commerce, 14th Street and Constitution Ave., NW, Washington, DC 20230; telephone: (202) 482-5050 or (202) 482-3330, respectively.

SUPPLEMENTARY INFORMATION:

Background

On July 1, 1999, the Department initiated, and the Commission instituted, sunset reviews (64 FR 35588 and 64 FR 35687, respectively) of the antidumping duty order on bars, wedges, axes, adzes, picks, mattocks, hammers, and sledges ( heavy forged handtools) from the PRC, pursuant to section 751(c) of the Act. As a result of its review, the Department found on February 4, 2000, that revocation of the antidumping duty order on axes, adzes, picks, and mattocks from the PRC would likely lead to continuation or recurrence of dumping and notified the Commission of the magnitude of the margins likely to prevail were the order revoked. See 65 FR 5497 (February 4, 2000). In addition, under the same order (A-570-803), on June 2, 2000, the Department determined that revocation of the antidumping duty order on bars, wedges, hammers, and sledges from the PRC would likely lead to continuation or recurrence of dumping and notified the Commission of the magnitude of the margins likely to prevail were the order revoked. See 65 FR 35321 (June 2, 2000).

On February 26, 2000, the Commission determined, pursuant to section 751(c) of the Act, that revocation of the antidumping duty order on heavy forged handtools from the PRC would be likely to lead to continuation or recurrence of material injury to an industry in the United States within a reasonably foreseeable time. See Heavy Forged Handtools From China, 65 FR 45998 (July 26, 2000) and USITC Publication 3322 (July 2000), Investigation No. 731-TA-457 A-D (Review).

Scope

Imports covered by this order are shipments of heavy forged handtools (“HFHTs”) from the PRC comprising the following classes or kinds of merchandise: (1) Hammers and sledges with heads over 1.5 kg (3.33 pounds) (hammers/sledges); (2) bars over 18 inches in length, track tools and wedges (bars/wedges); (3) picks/mattocks; and (4) axes/adzes. HFHTs include heads for drilling, hammers, sledges, axes, mauls, picks, and mattocks, which may or may not be painted, which may or may not be finished, or which may or may not be imported with handles; assorted bar products and track tools including wrecking bars, digging bars and tampers; and steel wood splitting wedges. HFHTs are manufactured through a hot forge operation in which steel is sheared to required length, heated to forging temperature, and formed to final shape on forging equipment using dies specific to the desired product shape and size. Depending on the product, finishing operations may include shot-blasting, grinding, polishing and painting, and the insertion of handles for handled products. HFHTs are currently classifiable under the following Harmonized Tariff Schedule (“HTS”) subheadings: 8205.20.60, 8205.59.30, 8201.30.00, and 8201.40.60. Specifically excluded are hammers and sledges with heads 1.5 kg (3.33 pounds) in weight and under, hoes and rakes, and bars 18 inches in length and under.

The HTS item numbers are provided for convenience and customs purposes only. The written description of the scope remains dispositive.

This order covers imports from all manufacturers and exporters of axes, adzes, picks, mattocks, bars, wedges, hammers, and sledges from the PRC.

Determination

As a result of the determination by the Department and the Commission that revocation of the antidumping duty order would be likely to lead to continuation or recurrence of dumping and material injury to an industry in the United States, pursuant to section 751(d)(2) of the Act, the Department hereby orders the continuation of the antidumping duty order on heavy forged handtools from the PRC. The Department will instruct the U.S. Customs Service to continue to collect antidumping duty deposits at the rates in effect at the time of entry for all imports of subject merchandise. The effective date of continuation of this order will be the date of publication in the Federal Register of this Notice of Continuation. Pursuant to section 751(c)(2) and 751(c)(6) of the Act, the Department intends to initiate the next five-year review of this order not later than July 2005.

Dated: August 3, 2000.
Richard W. Moreland,
Acting Assistant Secretary for Import Administration.

[FR Doc. 00-20191 Filed 8-9-00; 8:45 am]

BILLING CODE 3510-DS-P